DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Chickasaw County, Iowa
Docket No.: FEMA-B-1208
Iowa | Unincorporated Areas of Chickasaw County | Little Cedar River (backwater effects from Cedar River) | Approximately 1,200 feet upstream of the Cedar River confluence | +962
|  |  | Approximately 100 feet upstream of Beumont Way | +962
* National Geodetic Vertical Datum.
+ North American Vertical Datum.
# Depth in feet above ground.
‸ Mean Sea Level, rounded to the nearest 0.1 meter.
ADDRESSES
Unincorporated Areas of Chickasaw County
Maps are available for inspection at the Chickasaw County Courthouse, 8 East Prospect Street, New Hampton, IA 50659.

Flooding Source(s) | Location of Referenced Elevation | * Elevation in feet (NGVD) + Elevation in feet (NAVD) # Depth in feet above ground ‸ Elevation in meters (MSL) Modified | Communities affected
Pima County, Arizona, and Incorporated Areas
Docket No.: FEMA-B-1220
Agua Caliente Split Flow | Approximately 1,500 feet upstream of the Tanque Verde Creek confluence | +2583 | Unincorporated Areas of Pima County.
| Approximately 500 feet downstream of the Agua Caliente Wash divergence | +2593
Agua Caliente Spur Flow | Approximately 0.5 mile downstream of East Tanque Verde Road | +2593 | Unincorporated Areas of Pima County.
| Approximately 0.4 mile upstream of East Tanque Verde Road | +2624
Agua Caliente Wash | Approximately 130 feet downstream of North Bonanza Avenue | +2567 | City of Tucson, Unincorporated Areas of Pima County.
| Approximately 700 feet upstream of Horse Head Road | +2805
* National Geodetic Vertical Datum.
+ North American Vertical Datum.
# Depth in feet above ground.
‸ Mean Sea Level, rounded to the nearest 0.1 meter.
ADDRESSES
City of Tucson
Maps are available for inspection at the Planning and Development Services Department, 201 North Stone Avenue, 3rd Floor, Tucson, AZ 85701.
Unincorporated Areas of Pima County
Maps are available for inspection at the Pima County Flood Control District, 97 East Congress Street, 3rd Floor, Tucson, AZ 85701.
Polk County, Florida, and Incorporated Areas
Docket No.: FEMA-B-1184
Lake B—ICPR Node Lake B | Entire shoreline | +67 | Unincorporated Areas of Polk County.
Lake Marion Creek | Approximately 1 mile upstream of the Lake Hatchineha confluence | +57 | Unincorporated Areas of Polk County.
| At the Lake Marion Creek Outlet and Snell Creek confluence | +67
Lake Marion Creek Outlet | At the Lake Marion Creek and Snell Creek confluence | +67 | Unincorporated Areas of Polk County.
| At the Lake Marion confluence | +68
Lake Polk—ICPR Node Lake Polk | Entire shoreline | +67 | Unincorporated Areas of Polk County.
London Creek Watershed Unnamed Pond—ICPR Node 28A1 | Entire shoreline | +70 | Unincorporated Areas of Polk County.
London Creek Watershed Unnamed Pond—ICPR Node 28A10 | Entire shoreline | +64 | Unincorporated Areas of Polk County.
London Creek Watershed Unnamed Pond—ICPR Node 28A11 | Entire shoreline | +64 | Unincorporated Areas of Polk County.
London Creek Watershed Unnamed Pond—ICPR Node 28A12 | Entire shoreline | +64 | Unincorporated Areas of Polk County.
London Creek Watershed Unnamed Pond—ICPR Node 28A13 | Entire shoreline | +63 | Unincorporated Areas of Polk County.
London Creek Watershed Unnamed Pond—ICPR Node 28A2 | Entire shoreline | +68 | Unincorporated Areas of Polk County.
London Creek Watershed Unnamed Pond—ICPR Node 28A20 | Entire shoreline | +70 | Unincorporated Areas of Polk County.
London Creek Watershed Unnamed Pond—ICPR Node 28A21 | Entire shoreline | +70 | Unincorporated Areas of Polk County.
London Creek Watershed Unnamed Pond—ICPR Node 28A22 | Entire shoreline | +70 | Unincorporated Areas of Polk County.
London Creek Watershed Unnamed Pond—ICPR Node 28A3 | Entire shoreline | +67 | Unincorporated Areas of Polk County.
London Creek Watershed Unnamed Pond—ICPR Node 28A5 | Entire shoreline | +65 | Unincorporated Areas of Polk County.
London Creek Watershed Unnamed Pond—ICPR Node 28A6 | Entire shoreline | +65 | Unincorporated Areas of Polk County.
London Creek Watershed Unnamed Pond—ICPR Node 28A7 | Entire shoreline | +65 | Unincorporated Areas of Polk County.
London Creek Watershed Unnamed Pond—ICPR Node 28A8 | Entire shoreline | +63 | Unincorporated Areas of Polk County.
London Creek Watershed Unnamed Pond—ICPR Node 28A9 | Entire shoreline | +64 | Unincorporated Areas of Polk County.
London Creek Watershed Unnamed Pond—ICPR Node 28B1 | Entire shoreline | +70 | Unincorporated Areas of Polk County.
London Creek Watershed Unnamed Pond—ICPR Node 28B11 | Entire shoreline | +66 | Unincorporated Areas of Polk County.
London Creek Watershed Unnamed Pond—ICPR Node 28B12 | Entire shoreline | +65 | Unincorporated Areas of Polk County.
London Creek Watershed Unnamed Pond—ICPR Node 28B15 | Entire shoreline | +65 | Unincorporated Areas of Polk County.
London Creek Watershed Unnamed Pond—ICPR Node 28B16 | Entire shoreline | +63 | Unincorporated Areas of Polk County.
London Creek Watershed Unnamed Pond—ICPR Node 28B5 | Entire shoreline | +70 | Unincorporated Areas of Polk County.
London Creek Watershed Unnamed Pond—ICPR Node 28B6 | Entire shoreline | +70 | Unincorporated Areas of Polk County.
London Creek Watershed Unnamed Pond—ICPR Node 28C11 | Entire shoreline | +64 | Unincorporated Areas of Polk County.
London Creek Watershed Unnamed Pond—ICPR Node 28C12 | Entire shoreline | +66 | Unincorporated Areas of Polk County.
London Creek Watershed Unnamed Pond—ICPR Node 28C20 | Entire shoreline | +66 | Unincorporated Areas of Polk County.
London Creek Watershed Unnamed Pond—ICPR Node 28C8 | Entire shoreline | +65 | Unincorporated Areas of Polk County.
London Creek Watershed Unnamed Pond—ICPR Node 28C9 | Entire shoreline | +67 | Unincorporated Areas of Polk County.
London Creek Watershed Unnamed Pond—ICPR Node 28D1 | Entire shoreline | +67 | Unincorporated Areas of Polk County.
London Creek Watershed Unnamed Pond—ICPR Node 28D10 | Entire shoreline | +64 | Unincorporated Areas of Polk County.
London Creek Watershed Unnamed Pond—ICPR Node 28D11 | Entire shoreline | +67 | Unincorporated Areas of Polk County.
London Creek Watershed Unnamed Pond—ICPR Node 28D2 | Entire shoreline | +67 | Unincorporated Areas of Polk County.
London Creek Watershed Unnamed Pond—ICPR Node 28D3 | Entire shoreline | +66 | Unincorporated Areas of Polk County.
London Creek Watershed Unnamed Pond—ICPR Node 28D4 | Entire shoreline | +65 | Unincorporated Areas of Polk County.
London Creek Watershed Unnamed Pond—ICPR Node 28D5 | Entire shoreline | +66 | Unincorporated Areas of Polk County.
London Creek Watershed Unnamed Pond—ICPR Node 28D6 | Entire shoreline | +65 | Unincorporated Areas of Polk County.
London Creek Watershed Unnamed Pond—ICPR Node 28D7 | Entire shoreline | +65 | Unincorporated Areas of Polk County.
London Creek Watershed Unnamed Pond—ICPR Node 28D8 | Entire shoreline | +65 | Unincorporated Areas of Polk County.
London Creek Watershed Unnamed Pond—ICPR Node 28D9 | Entire shoreline | +65 | Unincorporated Areas of Polk County.
London Creek Watershed Unnamed Wetland Area—ICPR Node 28W1 | Entire wetland area | +68 | Unincorporated Areas of Polk County.
London Creek Watershed Unnamed Wetland Area—ICPR Node 28W10 | Entire wetland area | +68 | Unincorporated Areas of Polk County.
London Creek Watershed Unnamed Wetland Area—ICPR Node 28W12 | Entire wetland area | +67 | Unincorporated Areas of Polk County.
London Creek Watershed Unnamed Wetland Area—ICPR Node 28W13 | Entire wetland area | +67 | Unincorporated Areas of Polk County.
London Creek Watershed Unnamed Wetland Area—ICPR Node 28W28 | Entire wetland area | +67 | Unincorporated Areas of Polk County.
London Creek Watershed Unnamed Wetland Area—ICPR Node 28W35 | Entire wetland area | +66 | Unincorporated Areas of Polk County.
London Creek Watershed Unnamed Wetland Area—ICPR Node 28W36 | Entire wetland area | +63 | Unincorporated Areas of Polk County.
London Creek Watershed Unnamed Wetland Area—ICPR Node 28W39 | Entire wetland area | +64 | Unincorporated Areas of Polk County.
London Creek Watershed Unnamed Wetland Area—ICPR Node 28W43 | Entire wetland area | +63 | Unincorporated Areas of Polk County.
London Creek Watershed Unnamed Wetland Area—ICPR Node 28W43A | Entire wetland area | +63 | Unincorporated Areas of Polk County.
London Creek Watershed Unnamed Wetland Area—ICPR Node 28W43B | Entire wetland area | +63 | Unincorporated Areas of Polk County.
London Creek Watershed Unnamed Wetland Area—ICPR Node 28W43C | Entire wetland area | +63 | Unincorporated Areas of Polk County.
London Creek Watershed Unnamed Wetland Area—ICPR Node 28W45 | Entire wetland area | +65 | Unincorporated Areas of Polk County.
London Creek Watershed Unnamed Wetland Area—ICPR Node 28W61 | Entire wetland area | +63 | Unincorporated Areas of Polk County.
London Creek Watershed Unnamed Wetland Area—ICPR Node 28W64 | Entire wetland area | +66 | Unincorporated Areas of Polk County.
London Creek Watershed Unnamed Wetland Area—ICPR Node 28W65 | Entire wetland area | +65 | Unincorporated Areas of Polk County.
London Creek Watershed Unnamed Wetland Area—ICPR Node 28W72 | Entire wetland area | +65 | Unincorporated Areas of Polk County.
London Creek Watershed Unnamed Wetland Area—ICPR Node 28W74 | Entire wetland area | +64 | Unincorporated Areas of Polk County.
London Creek Watershed Unnamed Wetland Area—ICPR Node 28W9 | Entire wetland area | +68 | Unincorporated Areas of Polk County.
London Creek Watershed Unnamed Wetland Area—ICPR Node 28W91 | Entire wetland area | +66 | Unincorporated Areas of Polk County.
Snell Creek | At the Lake Marion Creek and Lake Marion Creek Outlet confluence | +67 | Unincorporated Areas of Polk County.
| Approximately 1.5 miles upstream of Cypress Parkway | +72
* National Geodetic Vertical Datum.
+ North American Vertical Datum.
# Depth in feet above ground.
‸ Mean Sea Level, rounded to the nearest 0.1 meter.
ADDRESSES
Unincorporated Areas of Polk County
Maps are available for inspection at 330 West Church Street, Bartow, FL 33830.
Alcona County, Michigan (All Jurisdictions)
Docket No.: FEMA-B-1208
Lake Huron | Entire shoreline within community | +583 | City of Harrisville, Township of Alcona, Township of Harrisville, Township of Haynes.
* National Geodetic Vertical Datum.
+ North American Vertical Datum.
# Depth in feet above ground.
‸ Mean Sea Level, rounded to the nearest 0.1 meter.
ADDRESSES
City of Harrisville
Maps are available for inspection at City Hall, 200 5th Street, Harrisville, MI 48740.
Township of Alcona
Maps are available for inspection at the Alcona Township Hall, 5576 North U.S. Route 23, Black River, MI 48721
Township of Harrisville
Maps are available for inspection at the Township Hall, 114 South Poor Farm Road, Harrisville, MI 48740.
Township of Haynes
Maps are available for inspection at the Haynes Township Hall, 3930 East McNeill Road, Lincoln, MI 48742.
Jackson County, Wisconsin, and Incorporated Areas
Docket No.: FEMA-B-1210
Black River | Approximately 0.94 mile downstream of County Highway K | +831 | Ho-Chunk Nation.
| Approximately 0.48 mile downstream of County Highway K | +833
Trempealeau River | Approximately 0.41 mile upstream of the French Creek confluence | +875 | Village of Taylor.
| Approximately 0.39 mile upstream of Bridge Street | +882
* National Geodetic Vertical Datum.
+ North American Vertical Datum.
# Depth in feet above ground.
‸ Mean Sea Level, rounded to the nearest 0.1 meter.
ADDRESSES
Ho-Chunk Nation
Maps are available for inspection at W9814 Airport Road, Black River Falls, WI 54615.
Village of Taylor
Maps are available for inspection at 420 2nd Street, Taylor, WI 54659.

(Catalog of Federal Domestic Assistance No. 97.022, “Flood Insurance.”)

Dated: August 1, 2012.
Sandra K. Knight,
Deputy Associate Administrator for Mitigation, Department of Homeland Security, Federal Emergency Management Agency.

[FR Doc. 2012-20134 Filed 8-15-12; 8:45 am]

BILLING CODE 9110-12-P